DEPARTMENT OF ENERGY

[OE Docket No. EA-243-D]

Application To Export Electric Energy; Tenaska Power Services Co.

AGENCY: Office of Electricity, Department of Energy.

ACTION: Notice of application.

SUMMARY: Tenaska Power Services Co. (Applicant or TPS) has applied for authorization to transmit electric energy from the United States to Canada pursuant to the Federal Power Act.

DATES: Comments, protests, or motions to intervene must be submitted on or before December 20, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On November 3, 2021, TPS filed an application with DOE (Application or App.) to “transmit electric energy from the United States to Canada for a period of five years.” App. at 1. TPS states that it “is a Nebraska corporation and an indirect, wholly owned subsidiary of Tenaska Energy, Inc. (`Tenaska').” Id. TPS further states that its “parent company, Tenaska, is a privately held corporation organized and existing under the laws of Delaware.” Id. at 2. TPS represents that it “does not currently own or control electric generation or transmission facilities, and does not have a power supply of its own in the United States that would cause its electricity exports to have a reliability, fuel use, or system stability impact.” Id. at 3.

TPS further claims that it would “purchase the electricity may export . . . from wholesale generators, electric utilities, federal power marketing agencies and affiliates through negotiated agreements that have been voluntarily executed by the selling parties after considering their own need for any such electricity.” App. at 3. TPS contends that its “proposed electricity exports will not impair or tend to impede the sufficiency of electric power supplies in the United States or the regional coordination of electric utility planning or operations.” Id. at 3-4.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning TPS's application to export electric energy to Canada should be clearly marked with OE Docket No. EA-243-D. Additional copies are to be provided directly to Norma Rosner Iacovo, 300 East John Carpenter Freeway, Suite 100, Irving, TX 75062, niacovo@tnsk.com; and Neil L. Levy, 500 North Capitol Street NW, Washington, DC 20001, nlevy@mwe.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on November 12, 2021.
Christopher Lawrence,
Management and Program Analyst, Electricity Delivery Division, Office of Electricity.

[FR Doc. 2021-25247 Filed 11-18-21; 8:45 am]

BILLING CODE 6450-01-P